DEPARTMENT OF JUSTICE

Antitrust Division

Notice Pursuant to the National Cooperative Research and Production Act of 1993—The Open Group, L.L.C.

Notice is hereby given that, on September 9, 2015, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Actica Consulting Ltd., Surrey, UNITED KINGDOM; Adept Technology Pvt. Ltd., Chennai, INDIA; Agency for Public Management and eGovernment, Oslo, NORWAY; Alliant Techsystems Operations LLC, Clearwater, FL; Archi Tacts, Inc., Coppell, TX; ARISE Consulting (SuZhou) Pte. Ltd., Shanghai, PEOPLE'S REPUBLIC OF CHINA; ATE Enterprises, Ltd., High Wycombe, UNITED KINGDOM; Cephas Consulting Corp., Tustin, CA; DAR Solutions L.L.C, Rockford, IL; EA-Xperts, Mannheim, GERMANY; GooBiz, Cergy, FRANCE; HCL Technologies, Ltd., Noida, INDIA; Incepture S.a.r.l., Rabat, MOROCCO; Information Systems Audit and Control Association, Inc., Rolling Meadows, IL; New Zealand Department of Internal Affairs, Wellington, NEW ZEALAND; Optimal Business Growth Ltd., Poole, UNITED KINGDOM; Palm View Consulting, Whitlock, BELGUIM; Shware Systems, Port Richey, FL; Software Engineering Competence Center, Giza, EGYPT; and University of Luxembourg, Luxembourg, LUXEMBOURG, have been added as parties to this venture.

Also, Aoyama Gakuin University, Tokyo, JAPAN; Architecting the Enterprise, High Wycombe, UNITED KINGDOM; Atos International SAS, Bezons, FRANCE; CPP Investment Board, Toronto, CANADA; Eflow, Inc., Shibuya-ku, JAPAN; Ericsson AB, Stockholm, SWEDEN; Estrat TI S.A. de C.V., Mexico City, MEXICO; Keio University, Kanagawa, JAPAN; Kutta Technologies, Inc., Phoenix, AZ; Nanfang Media Group, Guangzhou, PEOPLE'S REPUBLIC OF CHINA; QinetiQ NA, Stafford, VA; Silosmashers, Inc., Fairfax, VA; Sony Computer Science Laboratories, Tokyo, JAPAN; Strategic Communications, Louisville, KY; Symphony Ltd., Setagaya-ku, JAPAN; The Marlo Group, Southgate, AUSTRALIA; and Universite Laval CeRTAE, Quebec, CANADA, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 7, 2015. A notice was published in the Federal Register pursuant to Section 6(b) of the Act on June 4, 2015 (80 FR 31921).

Patricia A. Brink,
Director of Civil Enforcement, Antitrust Division.

[FR Doc. 2015-25056 Filed 10-1-15; 8:45 am]

BILLING CODE P